DEPARTMENT OF ENERGY

Federal Energy Regulatory Commission

[Docket No. CP17-458-000]

Midship Pipeline Company, LLC; Notice of Availability of the Final Environmental Impact Statement for the Proposed Midcontinent Supply Header Interstate Pipeline Project

The staff of the Federal Energy Regulatory Commission (FERC or Commission) has prepared a final environmental impact statement (EIS) for the Midcontinent Supply Header Interstate Pipeline Project, proposed by Midship Pipeline Company, LLC (Midship Pipeline) in the above-referenced docket. Midship Pipeline requests authorization to construct and operate approximately 234.1 miles of new pipeline, three compressor stations, a booster station, and accompanying facilities in Oklahoma. The project would deliver an additional 1,440 million standard cubic feet per day of year-round firm transportation capacity from Kingfisher County, Oklahoma to existing natural gas pipelines near Bennington, Oklahoma for transport to growing Gulf Coast and Southeast Markets.

The final EIS assesses the potential environmental effects of the construction and operation of the project in accordance with the requirements of the National Environmental Policy Act (NEPA). The FERC staff concludes that approval of the project would result in some adverse environmental impacts; however, these impacts would be reduced to less-than-significant levels with the implementation of Midship Pipeline's proposed mitigation and the additional measures recommended in the final EIS.

The U.S. Environmental Protection Agency participated as a cooperating agency in the preparation of the EIS. Cooperating agencies have jurisdiction by law or special expertise with respect to resources potentially affected by the proposal and participate in the NEPA analysis. The U.S. Environmental Protection Agency provided input to the conclusions and recommendations presented in the final EIS.

The final EIS addresses the potential environmental effects of the construction and operation of the following proposed project facilities in Oklahoma:

• 199.7 miles of new 36-inch-diameter natural gas pipeline in Kingfisher, Canadian, Grady, Garvin, Stephens, Carter, Johnston, and Bryan Counties;

• 20.5 miles of new 30-inch-diameter pipeline lateral in Kingfisher County;

• 13.8 miles of new 16-inch-diameter pipeline lateral in Stephens, Carter, and Garvin Counties;

• 0.1 mile of new 24-inch-diameter tie-in piping in Canadian County;

• three new compressor stations and one new booster station in Canadian, Garvin, Bryan, and Stephens Counties; and

• eight new receipt meters, two new receipt taps, four new delivery meters, and appurtenant facilities.

The FERC staff mailed copies of the EIS to federal, state, and local government representatives and agencies; elected officials; environmental and public interest groups; Native American tribes; potentially affected landowners and other interested individuals and groups; and newspapers and libraries in the project area. Paper copy versions of Volume I of the EIS were mailed to those specifically requesting them; all recipients received a CD version containing both Volumes I and II of the EIS. In addition, the EIS is available for public viewing on the FERC's website (www.ferc.gov) using the eLibrary link. A limited number of copies are available for distribution and public inspection at: Federal Energy Regulatory Commission, Public Reference Room, 888 First Street NE, Room 2A, Washington, DC 20426, (202) 502-8371.

Questions?

Additional information about the project is available from the Commission's Office of External Affairs, at (866) 208-FERC, or on the FERC website (www.ferc.gov) using the eLibrary link. Click on the eLibrary link, click on General Search, and enter the docket number in the Docket Number field excluding the last three digits (i.e., CP17-458). Be sure you have selected an appropriate date range. For assistance, please contact FERC Online Support at FercOnlineSupport@ferc.gov or toll free at (866) 208-3676; for TTY, contact (202) 502-8659. The eLibrary link also provides access to the texts of all formal documents issued by the Commission, such as orders, notices, and rulemakings.

In addition, the Commission offers a free service called eSubscription, which allows you to keep track of all formal issuances and submittals in specific dockets. This can reduce the amount of time you spend researching proceedings by automatically providing you with notification of these filings, document summaries, and direct links to the documents. Go to www.ferc.gov/docs-filing/esubscription.asp.

Dated: June 21, 2018.
Nathaniel J. Davis, Sr.,
Deputy Secretary.

[FR Doc. 2018-13852 Filed 6-26-18; 8:45 am]

BILLING CODE 6717-01-P